SOCIAL SECURITY ADMINISTRATION

[Docket No. SSA-2021-0018]

Privacy Act of 1974; Matching Program

AGENCY: Social Security Administration (SSA).

ACTION: Notice of a new matching program.

SUMMARY: In accordance with the provisions of the Privacy Act, as amended, this notice announces a new matching program with the State or local law enforcement agency or jurisdiction (Source Jurisdiction).

DATES: Submit comments on or before November 17, 2021. The matching program will be applicable on April 10, 2022, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. [SSA-2021-0018] so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number [SSA-2021-0018] and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Andrea Huseth, Division Director, Office of Privacy and Disclosure, Office of the General Counsel, Social Security Administration, G-401 WHR, 6401 Security Boulevard, Baltimore, MD 21235-6401, at telephone: (410) 966-5855, or send an email to Andrea.Huseth@ssa.gov.

SUPPLEMENTARY INFORMATION: Under this matching program, SSA will conduct a matching program with Source Jurisdiction in accordance with the Privacy Act of 1974, as amended by the Computer Matching and Privacy Protection Act of 1988, and the regulations and guidance promulgated thereunder, to identify individuals in the Source Jurisdiction who are (1) fleeing fugitive felons, parole violators, or probation violators, as defined by the Social Security Act (Act) and in accordance with the Martinez Settlement and the Clark Court Order, as defined below; and who are also (2) Supplemental Security Income (SSI) recipients, Retirement, Survivors and Disability Insurance (RSDI) beneficiaries, Special Veterans Benefit (SVB) beneficiaries; or representative payees for SSI recipients, RSDI beneficiaries, or SVB beneficiaries.

Matthew Ramsey,
Executive Director, Office of Privacy and Disclosure, Office of the General Counsel.

Participating Agencies

SSA and Source Jurisdiction.

Authority for Conducting the Matching Program

The legal authority for the matching program conducted under this agreement are 1611(e)(4)(A)(i), 202(x)(l)(A)(iv), and 804(a)(2) of the Act (42 U.S.C. 1382(e)(4)(A)(i), 402(x)(l)(A)(iv), and 1004(a)(2)), which prohibit the payment of SSI, RSDI, or SVB benefits to an SSI recipient, RSDI beneficiary, or SVB beneficiary for any month during which such individual flees to avoid prosecution, or custody or confinement after conviction, under the applicable laws of the jurisdiction from which the person flees, for a crime or attempt to commit a crime considered to be a felony under the laws of said jurisdiction, or in jurisdictions that do not define such crimes as felonies, is punishable by death or imprisonment for a term exceeding 1 year (regardless of the actual sentence imposed). As a result of a settlement of a nationwide class action in Martinez v. Astrue, No. 08-4735 (N.D. Cal. September 24, 2009) (Martinez Settlement), SSA's nonpayment of benefits under these sections of the Act is limited to individuals with certain flight- or escape-coded warrants. Sections 1611(e)(4)(A)(ii), 202(x)(l)(A)(v), and 804(a)(3) of the Act (42 U.S.C. 1382(e)(4)(A)(ii), 402(x)(l)(A)(v), and 1004(a)(3)), which prohibit payment of SSI, RSDI, or SVB benefits to a recipient/beneficiary who violates a condition of probation or parole imposed under Federal or state law. As a result of a nationwide class action in Clark v. Astrue, 06 Civ. 15521 (S.D. NY, April 13, 2012) (Clark Court Order), SSA's nonpayment of benefits under these sections of the Act cannot be based solely on the existence of parole or probation violation warrants. Sections 1631(a)(2)(B)(iii)(V), 205(j)(2)(C)(i)(V), and 807(d)(1)(E) of the Act (42 U.S.C. 383(a)(2)(B)(iii)(V), 405(j)(2)(C)(i)(V), 1007(d)(1)(E)), which prohibit SSA from using a person as a representative payee when such person is a person described in sections 1611(e)(4)(A), 202(x)(1)(A)(iv), or 804(a)(2) of the Act. The legal authority for SSA's disclosure of information to the Source Jurisdiction are 1106(a), 1611(e)(5), 1631(a)(2)(B)(xiv), 202(x)(3)(C), 205(j)(2)(B)(iii) and 807(b)(3) of the Act; the Privacy Act of 1974, as amended by the Computer Matching and Privacy Protection Act of 1988 (5 U.S.C. 552a(b)(3)); and SSA's disclosure regulations promulgated at 20 CFR 401.150. The terms of the Clark Court Order and the Martinez Settlement do not restrict this disclosure authority in any manner.

Purpose(s)

The purpose of this agreement is to establish the terms, conditions, and safeguards under which SSA will conduct a matching program with Source Jurisdiction in accordance with the Privacy Act of 1974, as amended by the Computer Matching and Privacy Protection Act of 1988 (5 U.S.C. 552a), and the regulations and guidance promulgated thereunder, to identify individuals in the Source Jurisdiction who are (1) fleeing fugitive felons, parole violators, or probation violators, as defined by the Act and in accordance with the Martinez Settlement and the Clark Court Order, as defined below; and who are also (2) SSI recipients, RSDI beneficiaries, SVB beneficiaries; or representative payees for SSI recipients, RSDI beneficiaries, or SVB beneficiaries.

Categories of Individuals

The individuals whose information is involved in this matching program are individuals who receive SSI, RSDI, or SVB benefits, or individuals serving as representative payees for SSI recipients, RSDI beneficiaries, or SVB beneficiaries.

Categories of Records

The Source Jurisdiction will provide specific data elements for individuals as specified in Attachment A. SSA Data Elements Matched:

a. SSR/SVB and MBR: Individual's SSN and payment status.

b. Master Files of SSN Holders and SSN Applications: Individual's name, date of birth, SSN, and gender.

c. Master Representative Payee File: Individual's SSN and status as a representative payee.

Alphident Use: The purpose of using the Alphident file under this agreement is to locate an individual's SSN by name search. SSA will use the Alphident file when the Source Jurisdiction either fails to provide an SSN or provides an incorrect SSN for the named individual. The Alphident file allows SSA to locate the SSN by utilizing electronic data systems currently available.

SSA matches the name and date of birth data received from the Source Jurisdiction against the Alphident file. If both sets of data match only one record in SSA's file, SSA assumes that the SSN associated with the matched name and date of birth belongs to the person named by the Source Jurisdiction. SSA then treats the individual whose SSN was generated through the Alphident search in the same manner as those individuals whose SSNs provided by the Source Jurisdiction matched SSA's records. If the name of an individual matches with a single SSN in SSA's records, SSA assumes that the SSN associated with the matching record belongs to the individual in the Source Jurisdiction's records, even if the date of birth does not match. SSA then considers this a matched item.

System(s) of Records: Source Jurisdiction Records

The Source Jurisdiction will identify individuals who are fleeing fugitive felons, probation violators, or parole violators in its records originating from various databases.

The Source Jurisdiction will prepare and disclose its records electronically (e.g., Government to Government Services Online) with clear identification of the record source including the record source name and where record source obtained the information.

SSA System of Records—SSA will match the following systems of records with the incoming Source Jurisdiction records to determine individuals who receive SSI, RSDI, or SVB benefits, or individuals serving as representative payees for SSI recipients, RSDI beneficiaries, or SVB beneficiaries:

a. Supplemental Security Income Record and Special Veterans Benefits (SSR/SVB), 60-0103, originally published at 71 FR 1830 on January 11, 2006 and updated on December 10, 2007, at 72 FR 69723, July 3, 2018 at 83 FR 31250-31251, and November 1, 2018 at 83 FR 54969;

b. Master Beneficiary Record (MBR), SSA/ORSIS 60-0090, originally published at 71 FR 1826 on January 11, 2006 and updated on December 10, 2007, at 72 FR 69723, and July 5, 2013 at 78 FR 40542, July 3, 2018 at 83 FR 31250-31251, and November 1, 2018 at 83 FR. 54969;

c. Master Representative Payee File, SSA/NCC 60-0222, originally published on April 22, 2013 at 78 FR 23811, and updated on July 3, 2018 at 83 FR 31250-31251 and November 2, 2018 at 83 FR 55228; and,

d. Master Files of Social Security Number Holders and SSN Applications, SSA/OTSO 60-0058, originally published on December 29, 2010 at 75 FR 82121 and updated on July 5, 2013 at 78 FR 40542 and February 13, 2014 at 79 FR 8780, July 3, 2018 at 83 FR 31250-31251, and November 1, 2018 at 83 FR 54969. The Alphident file comes under this system of record.

[FR Doc. 2021-22631 Filed 10-15-21; 8:45 am]

BILLING CODE 4191-02-P